DEPARTMENT OF COMMERCE

International Trade Administration

[A-570-018]

Boltless Steel Shelving Units Prepackaged for Sale From the People's Republic of China: Antidumping Duty Order

AGENCY: Enforcement and Compliance, International Trade Administration, Department of Commerce.

SUMMARY: Based on affirmative final determinations by the Department of Commerce (the “Department”) and the International Trade Commission (“ITC”), the Department is issuing an antidumping duty order on boltless steel shelving units prepackaged for sale from the People's Republic of China (“PRC”).

DATES: Effective date: October 21, 2015.

FOR FURTHER INFORMATION CONTACT: Kabir Archuletta or Irene Gorelik, AD/CVD Operations, Office V, Enforcement and Compliance, International Trade Administration, U.S. Department of Commerce, 14th Street and Constitution Avenue NW., Washington, DC 20230; telephone: (202) 482-2593 or (202) 482-6905, respectively.

SUPPLEMENTARY INFORMATION:

Background

On August 26, 2015, the Department published the final determination of sales at less than fair value in the antidumping duty investigation of boltless steel shelving units prepackaged for sale from the PRC.¹ On October 7, 2015, the ITC notified the Department of its final determination pursuant to section 735(b)(1)(A)(i) of the Tariff Act of 1930, as amended (“the Act”), that an industry in the United States is materially injured or threatened with material injury by reason of imports of boltless steel shelving units prepackaged for sale from the PRC.²

¹ See Boltless Steel Shelving Units Prepackaged for Sale From the People's Republic of China: Final Determination of Sales at Less Than Fair Value, 80 FR 51779 (August 26, 2015) (“Final Determination”) and accompanying Issues and Decision Memorandum.

² See Letter to Christian Marsh, Deputy Assistant Secretary of Commerce for Enforcement and Compliance, from Meredith Broadbent, Chairman of the U.S. International Trade Commission, regarding boltless steel shelving units prepackaged for sale from the People's Republic of China (October 7, 2015). See also Boltless Steel Shelving Units Prepackaged for Sale from China, Investigation Nos. 701-TA-523 and 731-TA-1259 (Final), 80 FR 61841 (October 14, 2015).

Scope of the Order

The scope of this order covers boltless steel shelving units prepackaged for sale, with or without decks (“boltless steel shelving”). The term “prepackaged for sale” means that, at a minimum, the steel vertical supports (i.e., uprights and posts) and steel horizontal supports (i.e., beams, braces) necessary to assemble a completed shelving unit (with or without decks) are packaged together for ultimate purchase by the end-user. The scope also includes add-on kits. Add-on kits include, but are not limited to, kits that allow the end-user to add an extension shelving unit onto an existing boltless steel shelving unit such that the extension and the original unit will share common frame elements (e.g., two posts). The term “boltless” refers to steel shelving in which the vertical and horizontal supports forming the frame are assembled primarily without the use of nuts and bolts or screws. The vertical and horizontal support members for boltless steel shelving are assembled by methods such as, but not limited to, fitting a rivet, punched or cut tab or other similar connector on one support into a hole, slot or similar receptacle on another support. The supports lock together to form the frame for the shelving unit, and provide the structural integrity of the shelving unit separate from the inclusion of any decking. The incidental use of nuts and bolts or screws to add accessories, wall anchors, tie-bars or shelf supports does not remove the product from scope. Boltless steel shelving units may also come packaged as partially assembled, such as when two upright supports are welded together with front-to-back supports, or are otherwise connected, to form an end unit for the frame. The boltless steel shelving covered by this order may be commonly described as rivet shelving, welded frame shelving, slot and tab shelving, and punched rivet (quasi-rivet) shelving as well as by other trade names. The term “deck” refers to the shelf that sits on or fits into the horizontal supports (beams or braces) to provide the horizontal storage surface of the shelving unit.

The scope includes all boltless steel shelving meeting the description above, regardless of (1) vertical support or post type (including but not limited to open post, closed post and tubing); (2) horizontal support or beam/brace profile (including but not limited to Z-beam, C-beam, L-beam, step beam and cargo rack); (3) number of supports; (4) surface coating (including but not limited to paint, epoxy, powder coating, zinc and other metallic coating); (5) number of levels; (6) weight capacity; (7) shape (including but not limited to rectangular, square, and corner units); (8) decking material (including but not limited to wire decking, particle board, laminated board or no deck at all); or (9) the boltless method by which vertical and horizontal supports connect (including but not limited to keyhole and rivet, slot and tab, welded frame, punched rivet and clip).

Specifically excluded from the scope are:

• Wall-mounted shelving, defined as shelving that is hung on the wall and does not stand on, or transfer load to, the floor; ³

³ The addition of a wall bracket or other device to attach otherwise freestanding subject merchandise to a wall does not meet the terms of this exclusion.

• wire shelving units, which consist of shelves made from wire that incorporates both a wire deck and wire horizontal supports (taking the place of the horizontal beams and braces) into a single piece with tubular collars that slide over the posts and onto plastic sleeves snapped on the posts to create the finished shelving unit;

• bulk-packed parts or components of boltless steel shelving units; and

• made-to-order shelving systems.

Subject boltless steel shelving enters the United States through Harmonized Tariff Schedule of the United States (“HTSUS”) statistical subheadings 9403.20.0018, 9403.20.0020, 9403.20.0025, and 9403.20.0026, but may also enter through HTSUS 9403.10.0040. While HTSUS subheadings are provided for convenience and Customs purposes, the written description of the scope of this order is dispositive.

Antidumping Duty Order

In accordance with sections 735(b)(1)(A)(i) and 735(d) of the Act, the ITC has notified the Department of its final determination in this investigation, in which it found that imports of boltless steel shelving from the PRC are materially injuring or threatening material injury to a U.S. industry. Therefore, in accordance with section 735(c)(2) of the Act, we are publishing this antidumping duty order.

As a result of the ITC's final determination, in accordance with section 736(a)(1) of the Act, the Department will direct U.S. Customs and Border Protection (“CBP”) to assess, upon further instruction by the Department, antidumping duties equal to the amount by which the normal value of the merchandise exceeds the export price (or constructed export price) of the merchandise, for all relevant entries of boltless steel shelving from the PRC. These antidumping duties will be assessed on unliquidated entries from the PRC entered, or withdrawn from warehouse, for consumption on or after April 1, 2015, the date on which the Department published the Preliminary Determination,⁴ but will not include entries occurring after the expiration of the provisional measures period and before publication of the ITC's final injury determination, as further described below.

⁴ See Boltless Steel Shelving Units Prepackaged for Sale from the People's Republic of China: Preliminary Determination of Sales at Less Than Fair Value, 80 FR 17409 (April 1, 2015) (“Preliminary Determination”).

Continuation of Suspension of Liquidation

In accordance with section 735(c)(1)(B) of the Act, we will instruct CBP to continue to suspend liquidation on entries of subject merchandise from the PRC. We will also instruct CBP to require cash deposits equal to the estimated amount by which the normal value exceeds the U.S. price as indicated in the chart below, adjusted where appropriate for export subsidies and estimated domestic subsidy pass-through.⁵ These instructions suspending liquidation will remain in effect until further notice.

⁵ See Final Determination 80 FR at 51781 (describing the adjustments to the AD duty margins in more detail); see also sections 772(c)(1)(C) and 777A(f) of the Act, respectively. Unlike in administrative reviews, the Department calculates the adjustment for export subsidies in investigations not in the margin calculation program, but in the cash deposit instructions issued to CBP. See, e.g., Notice of Final Determination of Sales at Less Than Fair Value, and Negative Determination of Critical Circumstances: Certain Lined Paper Products from India, 71 FR 45012 (August 8, 2006), and accompanying Issues and Decision Memorandum at Comment 1.

Accordingly, effective on the date of publication of the ITC's final affirmative injury determination, CBP will require, at the same time as importers would normally deposit estimated duties on this subject merchandise, a cash deposit equal to the estimated weighted-average antidumping duty margins, adjusted where appropriate for export subsidies and estimated domestic subsidy pass-through, as discussed above.⁶ The “PRC-wide” rate applies to all exporters of subject merchandise not specifically listed.

⁶ See sections 736(a)(3), 772(c)(1)(C) and 777A(f) of the Act.

Provisional Measures

Section 733(d) of the Act states that instructions issued pursuant to an affirmative preliminary determination may not remain in effect for more than four months except where exporters representing a significant proportion of exports of the subject merchandise request the Department to extend that four-month period to no more than six months. At the request of an exporter that accounted for a significant proportion of exports of boltless steel shelving from the PRC, we extended the four-month period to no more than six months.⁷ In the underlying investigation, the Department published the Preliminary Determination on April 1, 2015. Therefore, the six-month period beginning on the date of the publication of the Preliminary Determination ended on September 27, 2015. Furthermore, section 737(b) of the Act states that definitive duties are to begin on the date of publication of the ITC's final injury determination.

⁷ See Boltless Steel Shelving Units Prepackaged for Sale From the People's Republic of China: Amended Preliminary Determination of Sales at Less Than Fair Value and Postponement of Final Determination, 80 FR 21207, 21208 (April 17, 2015).

Therefore, in accordance with section 733(d) of the Act and our practice, we will instruct CBP to terminate the suspension of liquidation and to liquidate, without regard to antidumping duties, unliquidated entries of boltless steel shelving from the PRC entered, or withdrawn from warehouse, for consumption after September 27, 2015, the date the provisional measures expired, and through the day preceding the date of publication of the ITC's final injury determination in the Federal Register.

Estimated Weighted-Average Dumping Margin

The weighted-average antidumping duty margin percentages are as follows:

Exporter | Producer | Weighted-Average margin (percent)
Zhongda United Holding Group Co., Ltd | Jiaxing Zhongda Metalwork Co., Ltd | 17.55
Jiaxing Zhongda Import & Export Co., Ltd | Jiaxing Zhongda Metalwork Co., Ltd | 17.55
Ningbo ETDZ Huixing Trade Co., Ltd | Haifa (Ningbo) Office Equipment Co., Ltd | 17.55
Ningbo ETDZ Huixing Trade Co., Ltd | Ningbo Decko Metal Products Trade Co., Ltd | 17.55
Ningbo ETDZ Huixing Trade Co., Ltd | Lianfa Metal Product Co., Ltd | 17.55
Meridian International Co., Ltd | Zhejiang Limai Metal Products Co., Ltd | 17.55
Zhejiang Limai Metal Products Co., Ltd | Zhejiang Limai Metal Products Co., Ltd | 17.55
HoiFat (NingBo) Office Facilities Co., Ltd | HoiFat (NingBo) Office Facilities Co., Ltd | 17.55
PRC-Wide Entity (including Nanjing Topsun Racking Manufacturing Co., Ltd.) |  | 112.68

This notice constitutes the antidumping duty order with respect to boltless steel shelving from the PRC, pursuant to section 736(a) of the Act. Interested parties may contact the Department's Central Records Unit, Room B8024 of the main Commerce building, for copies of an updated list of antidumping duty orders currently in effect.

This order is published in accordance with sections 736(a) of the Act and 19 CFR 351.211(b).

Dated: October 15, 2015.
Paul Piquado,
Assistant Secretary for Enforcement and Compliance.

[FR Doc. 2015-26765 Filed 10-20-15; 8:45 am]

BILLING CODE 3510-DS-P